FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 31, 2004.

A. Federal Reserve Bank of Richmond (A. Linwood Gill, III, Vice President) 701 East Byrd Street, Richmond, Virginia 23261-4528:

1. William Ray Harris, Sr., Jean Wright Harris, Michael Wesley Harris, Florence Diane Harris, Austin Ray Harris, Clayton Moore Harris, Matthew Wesley Harris, William Ray Harris, Jr., William Otis Hundley, Jr., Sandra Harris Hundley, and Joshua James Spain, all of Mineral, Virginia, as a group; to acquire voting shares of Peoples Bank of Virginia, Richmond, Virginia.

B. Federal Reserve Bank of Atlanta (Sue Costello, Vice President) 1000 Peachtree Street, N.E., Atlanta, Georgia 30303:

1. James Bernard Cantrelle, Raceland, Louisiana, Albert Anthony Cheramie, Golden Meadow, Louisiana, Huey Joseph Cheramie, Cut Off, Louisiana, Eldon Joseph Frazier, Cut Off, Louisiana, and Walter Harold Maples, Grand Isle, Louisiana, to acquire additional voting shares of SBT Bancshares, Inc., and thereby indirectly acquire additional voting shares of State Bank & Trust Company, both of Golden Meadow, Louisiana.

Board of Governors of the Federal Reserve System, August 11, 2004.
Robert deV. Frierson,
Deputy Secretary of the Board.

[FR Doc. 04-18753 Filed 8-16-04; 8:45 am]

BILLING CODE 6210-01-S